DEPARTMENT OF COMMERCE

International Trade Administration

A-357-812

Honey from Argentina: Notice of Partial Rescission of Antidumping Duty Administrative Review

AGENCY: Import Administration, International Trade Administration, Department of Commerce.

SUMMARY: The Department of Commerce (the Department) is partially rescinding its administrative review of the antidumping duty order on honey from Argentina for the period December 1, 2007, to November 30, 2008 with respect to Nexco S.A. (Nexco). This rescission, in part, is based on the withdrawal of the request for review by the interested parties that requested the review.

EFFECTIVE DATE: July 16, 2009.

FOR FURTHER INFORMATION CONTACT: Dena Crossland or John Drury, AD/CVD Operations, Office 7, Import Administration, International Trade Administration, U.S. Department of Commerce, 14th Street and Constitution Avenue, NW, Room 7866, Washington, DC 20230; telephone: (202) 482-3362 or (202) 482-0195, respectively.

SUPPLEMENTARY INFORMATION:

Background

On December 1, 2008, the Department published in the Federal Register its notice of opportunity to request an administrative review of the antidumping duty order on honey from Argentina. See Antidumping or Countervailing Duty Order, Finding, or Suspended Investigation; Opportunity to Request Administrative Review, 73 FR 72764 (December 1, 2008). In response, on December 30, 2008, the Asociacion de Cooperativas Argentinas (ACA) requested an administrative review of the antidumping duty order on honey from Argentina for the period December 1, 2007, through November 30, 2008. On December 31, 2008, the American Honey Producers Association and the Sioux Honey Association (collectively, petitioners) requested an administrative review of the antidumping duty order on honey from Argentina for the period December 1, 2007, through November 30, 2008, with respect to 17 Argentine producers/exporters. Also on December 31, 2008, Nexco requested an administrative review of the antidumping duty order on honey from Argentina for the period December 1, 2007, through November 30, 2008. ACA and Nexco were included in the petitioners' request for review.

On February 2, 2009, the Department initiated a review of the 17 companies for which an administrative review was requested. See Initiation of Antidumping and Countervailing Duty Administrative Reviews and Request for Revocation in Part, 74 FR 5821 (February 2, 2009). On March 6, 2009, petitioners timely withdrew their requests for review for the 15 following companies: AGLH S.A., Algodonera Avellaneda S.A., Alimentos Naturales-Natural Foods, Alma Pura, Bomare S.A. (Bodegas Miguel Armengol), Compania Apicola Argentina S.A. and Mielar S.A., Compania Inversora Platense S.A., EL Mana S.A., HoneyMax S.A., Interrupcion S.A., Miel Ceta SRL, Patagonik S.A., Productos Afer S.A., Seabird Argentina S.A., and Seylinco S.A. On April 17, 2009, the Department rescinded the administrative review with respect to these 15 companies because the petitioners were the only party to request administrative review of each of these companies. See Honey from Argentina: Notice of Partial Rescission of Antidumping Duty Administrative Review, 74 FR 17815 (April 17, 2009).

On June 10, 2009, both petitioners and Nexco submitted letters withdrawing their requests for an administrative review of Nexco.

Scope of the Order

The merchandise covered by the order is honey from Argentina. The products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form.

The merchandise under the scope of the order is currently classifiable under subheadings 0409.00.00, 1702.90.90, and 2106.90.99 of the Harmonized Tariff Schedule of the United States (HTSUS).

Although the HTSUS subheadings are provided for convenience and U.S. Customs and Border Protection (CBP) purposes, the Department's written description of the merchandise under this order is dispositive.

Rescission, in Part, of the Antidumping Duty Administrative Review

Section 351.213(d)(1) of the Department's regulations provides that the Department will rescind an administrative review if the party that requested the review withdraws its request for review within 90 days of the date of publication of the notice of initiation of the requested review, or withdraws at a later date if the Department determines it is reasonable to extend the time limit for withdrawing the request.

Both petitioners and Nexco withdrew their review requests after the 90-day deadline. However, the Department finds it reasonable to extend the withdrawal deadline for Nexco and petitioners because the Department has not yet devoted significant time or resources to this review. Further, we find that neither petitioners' nor Nexco's withdrawal of their requests for a review of Nexco constitutes an abuse of our procedures. See, e.g., Persulfates from the People's Republic of China: Notice of Rescission of Antidumping Duty Administrative Review, 71 FR 13810, 13811 (March 17, 2006). As a result, we are rescinding this review with regard to Nexco.

Assessment

The Department will issue appropriate assessment instructions directly to U.S. Customs and Border Protection (CBP) 15 days after the publication of this notice. The Department will direct CBP to assess antidumping duties for Nexco at the cash deposit rate in effect on the date of entry for entries during the period December 1, 2007 to November 30, 2008.

Notification to Importers

This notice serves as a reminder to importers of their responsibility under section 351.402(f) of the Department's regulations to file a certificate regarding the reimbursement of antidumping duties prior to liquidation of the relevant entries during this period of time. Failure to comply with this requirement could result in the Secretary's presumption that reimbursement of antidumping duties occurred and subsequent assessment of double antidumping duties.

Notification Regarding Administrative Protective Orders (APOs)

This notice also serves as a reminder to parties subject to APO of their responsibility concerning the disposition of proprietary information disclosed under APO in accordance with section 351.305(a)(3) of the Department's regulations. Timely written notification of the return or destruction of APO materials or conversion to judicial protective order is hereby requested. Failure to comply with the regulations and terms of an APO is a sanctionable violation.

This notice is issued and published in accordance with section 351.213(d)(4) of the Department's regulations and sections 751(a)(1) and 777(i)(1) of the Tariff Act of 1930, as amended.

Dated: July 8, 2009.
John M. Andersen,
Acting Deputy Assistant Secretary for Antidumping and Countervailing Duty Operations.

[FR Doc. E9-16956 Filed 7-15-09; 8:45 am]

BILLING CODE 3510-DS-S